DEPARTMENT OF HOUSING AND URBAN DEVELOPMENT

[Docket No. FR-5607-C-24]

Notice of Proposed Information Collection: Comment Request Manufactured Home Construction and Safety Standards Program

AGENCY: Office of the Assistant Secretary for Housing, HUD.

ACTION: Correction.

SUMMARY: On August 1, 2012, at 77 FR 45648, HUD published Manufactured Home Construction and Safety Standards Program. The forms were not listed. This document lists the forms.

DATES: Comments Due Date: November 13, 2012.

ADDRESSES: Interested persons are invited to submit comments regarding this proposal. Comments should refer to the proposal by name and/or OMB Control Number and should be sent to: Reporting Liaison Officer, Department of Housing and Urban Development, 451 7th Street SW., Washington, DC 20410, Room 9120 or the number for the Federal Information Relay Service (1-800-877-8339).

FOR FURTHER INFORMATION CONTACT: Henry S. Czauski, Acting Deputy Administrator, Office of Manufactured Housing Programs, Office of Housing, Department of Housing and Urban Development, 451 7th Street SW., Washington, DC 20410, telephone (202) 708-6409 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and, (4) Minimize the burden of the collection of information on those who are to respond including the use of appropriate automated collection techniques or other forms of information technology, e.g., permitting electronic submission of responses.

This Notice also lists the following information:

Title of Proposal: Manufactured Home Construction and Safety Standards Program.

OMB Control Number, if applicable: 2502-0233.

Description of the need for the information and proposed use: Collection of this information will result in a better determination of reporting how Primary Inspection Agencies and manufacturers request certification labels, track payment, track production, refund monies, and report missing or damaged labels to the Department or its monitoring contractor.

Agency form numbers, if applicable: Form HUD-101, IPIA Request for Labels; Form HUD-203, Lost Label Report; Form HUD-203B, Damage Label Report; Form HUD-301, Request and Payment for Labels; Form HUD-302, HUD Manufactured Home Monthly Production Report; Form HUD-303, Refunds due Manufacturer; and Form HUD-304, Adjustment Report.

Estimation of the total numbers of hours needed to prepare the information collection including number of respondents, frequency of response, and hours per response: The total number of burden hours is 2,230. The total number of respondents is 140, the total number of responses is 4,460, the frequency of response is on occasion, and the burden hours per response is 0.5.

Status of the proposed information collection: This is an extension of a currently approved collection.

Authority: The Paperwork Reduction Act of 1995, 44 U.S.C., Chapter 35, as amended.

Dated: September 7, 2012.
Laura M. Marin,
Acting General Deputy Assistant Secretary for Housing—Acting Deputy Federal Housing Commissioner.

[FR Doc. 2012-22608 Filed 9-12-12; 8:45 am]

BILLING CODE 4210-67-P